DEPARTMENT OF AGRICULTURE

Forest Service

Bitterroot National Forest, Darby Ranger District, Como Forest Health Project

AGENCY: Forest Service.

ACTION: Notice; Correction.

SUMMARY: The Department of Agriculture (USDA), Forest Service, Bitterroot National Forest, Darby Ranger District published a document in the Federal Register of June 17, 2013, concerning notice of intent to prepare an environmental impact statement. The document contained incorrect distance of the project area from Darby, Montana.

DATES: Comments concerning the scope of the analysis must be received by July 17, 2013. The draft environmental impact statement is expected December 2013 and the final environmental impact statement is expected July 2014.

ADDRESSES: Send written comments to Chuck Oliver, Darby District Ranger, P.O. Box 388, Darby, MT, 59829. Comments may also be sent via email to comments-northern-bitterroot-darby@fs.fed.us, or via facsimile to 406-821-4264.

FOR FURTHER INFORMATION CONTACT: Sara Grove, South Zone Interdisciplinary Team Leader; West Fork Ranger Station; 6735 West Fork Road; Darby, Montana 59829; phone (406) 821-1251; email sgrove@fs.fed.us.

Individuals who use telecommunication devices for the deaf (TDD) may call the Federal Information Relay Service (FIRS) at 1-800-877-8339 between 8 a.m. and 8 p.m., Eastern Time, Monday through Friday.

Correction

In the Federal Register of June 17, 2013, in FR DOC #2013-14229 on page 36163 in the second column, correct the second sentence in SUMMARY caption to read:

SUMMARY: * * * The Como FHP covers approximately 5,640 acres of national forest between Lake Como and Lost Horse roads, about 6 miles northwest of Darby in Ravalli County, Montana. * * *

Dated: June 19, 2013.
Julie K. King,
Forest Supervisor, Bitterroot National Forest.

[FR Doc. 2013-15246 Filed 6-25-13; 8:45 am]

BILLING CODE 3410-11-P